DEPARTMENT OF THE INTERIOR

Bureau of Indian Affairs

Proposed Finding Against Federal Acknowledgment of the St. Francis/Sokoki Band of Abenakis of Vermont

AGENCY: Bureau of Indian Affairs, Interior.

ACTION: Notice.

SUMMARY: Pursuant to 25 CFR 83.10(h), notice is hereby given that the Assistant Secretary—Indian Affairs (AS-IA), proposes to determine that the St. Francis/Sokoki Band of Abenakis of Vermont, P.O. Box 276, Swanton, Vermont, c/o Ms. April Merrill, is not an Indian tribe within the meaning of Federal law. This notice is based on a determination that the petitioner does not satisfy criteria 83.7(a), 83.7(b), 83.7(c) and 83.7(e), and thus, does not meet the requirements for a government-to-government relationship with the United States.

DATES: Publication of the AS-IA's notice of the proposed finding in the Federal Register initiates a 180-day comment period during which the petitioner, interested and informed parties, and the public may submit arguments and evidence to support or rebut the evidence relied upon in the proposed finding. Interested or informed parties must provide a copy of their comments to the petitioner. The regulations, 25 CFR 83.10(k), provide petitioners a minimum of 60 days to respond to any submissions on the proposed findings received from interested and informed parties during the comment period.

ADDRESSES: Comments on the proposed finding or requests for a copy of the summary evaluation of the evidence should be addressed to the Office of the Assistant Secretary—Indian Affairs, 1951 Constitution Avenue, NW., Washington, DC 20240, Attention of the Office of Federal Acknowledgment, Mail Stop 34B-SIB.

FOR FURTHER INFORMATION CONTACT: R. Lee Fleming, Director, Office of Federal Acknowledgment, (202) 513-7650.

SUPPLEMENTARY INFORMATION: This notice is published in the exercise of authority delegated by the Secretary of the Interior to the Associate Deputy Secretary by Secretarial Order 3259, of February 8, 2005, as amended on August 11, 2005.

The acknowledgment process is based on the regulations at 25 CFR part 83, first issued in 1978 and revised in 1994. Under these regulations, the petitioner has the burden to present evidence that it meets the seven mandatory criteria in section 83.7.

Pursuant to section 83.6(c), “the documented petition must include thorough explanations and supporting documentation in response to all of the criteria.” Furthermore, section 83.6(d) provides that a petition will be turned down for a lack of evidence. This notice of proposed finding is based on a determination that the St. Francis/Sokoki Band of Abenkis of Vermont (SSA), Petitioner #68, does not satisfy all seven of the mandatory criteria for acknowledgment as an Indian tribe described in 25 CFR 83.7.

The SSA submitted a letter of intent to petition for Federal acknowledgment on March 28, 1980. The AS-IA placed the petitioner on active consideration on February 4, 2005.

The SSA petitioner claims to have descended as a group mainly from the Missisquoi, a historical Western Abenaki Indian tribe. During the colonial period (approximately 1600-1800), the Missiquoi occupied the Lake Champlain region near the present-day town of Swanton in Franklin County in northwestern Vermont. The available evidence in the historical record indicates that by 1800 the disruption caused by colonial wars and non-Indian settlement had forced almost all the Western Abenakis in northern New England (including Vermont) to relocate to the Saint Francis River area of Quebec, Canada, and become part of the St. Francis [Odanak] village of Canadian Indians. The petitioner, however, contends that its ancestors remained behind in northwestern Vermont after 1800, or moved to Canada until it was “safe” to return. The petitioner also maintains that its ancestors lived “underground,” hiding their Native American identity to avoid drawing the attention of their non-Indian neighbors, until the 1970's. The details of this claimed process of living “underground,” however, are not explained by the petitioner. Some of the available documentation indicates that some of the group's ancestors moved from various locations in Quebec, Canada, to the United States over the course of the 19th century, but the available evidence does not demonstrate that the petitioner or its claimed ancestors descended from the St. Francis Indians of Quebec, another Indian group in Canada, a Missisquoi Abenaki entity in Vermont, or any other Western Abenaki group or Indian entity from New England in existence before or after 1800. The available evidence indicates that no external observers from 1800 to 1975 described the petitioner or its claimed ancestors, or any group of Indians, as an Indian entity or a distinct Indian community in northwestern Vermont.

The SSA petitioner does not meet criterion 83.7(a), which requires that it has been identified as an American Indian entity on a substantially continuous basis since 1900. The available evidence demonstrates that no external observers identified the SSA petitioner or a group of its ancestors as an Indian entity from 1900 to 1975. External sources, including Federal authorities, State agencies, local governments, scholars, newspapers, periodicals, and Indian organizations, have identified SSA as some form of Indian entity only on a regular basis since 1976. Based on the available evidence, therefore, the SSA has not been identified on a substantially continuous basis since 1900, and does not meet criterion 83.7(a). The SSA petitioner is encouraged to submit documentation demonstrating that it has been identified as an Indian entity from 1900 to 1975. The current record suggests that it formed only recently in the middle 1970's.

The SSA does not meet criterion 83.7(b), which requires that a predominant portion of the petitioning group comprises a distinct community and has existed as a community from historical times until the present. The available evidence does not demonstrate a predominant portion of the SSA petitioning group's members or its claimed ancestors have maintained consistent interaction and significant social relationships throughout history. Instead, the evidence demonstrates that the SSA petitioner is a collection of individuals of claimed (but not demonstrated) Indian ancestry with little or no social or historical connection with each other before the early 1970's. The available evidence also establishes that the petitioner's claimed ancestors and current members have not maintained at least a minimal distinction from other populations in the northwestern Vermont area and Lake Champlain region from historical times to the present.

The available evidence does not demonstrate the SSA petitioner has a historical or social connection to any Western Abenaki entity in existence before 1800. The petitioner has not provided sufficient evidence to establish that a predominant portion of its claimed ancestors were interacting as a group before 1800. Indeed, it is not known from the available evidence what these claimed ancestors were doing before they moved to Vermont over the course of the 19th century. Thus, the petitioner does not meet the requirements of criterion 83.7(b) before 1800.

A major problem with the evidence SSA submitted to demonstrate community for its claimed 19th century ancestors is the use of family-name variations to construct its ancestral family lines. The petitioner developed these names from family names found mainly on 19th century lists of St. Francis Indians at Odanak in Quebec, a historical group from which only a very small number of SSA's current members actually claim descent. It appears that the SSA petitioner took the family names of current members and searched for variations of those names on lists of Saint Francis Indians. The SSA petitioner also searched for further variations of those family names in local church, town, land, school, and census records from the 19th century in the Franklin County area of Vermont, or from the “oral traditions” of its members. Once the petitioner perceived what it believed were similarities between the name of a present-day family and names on these historical records, it designated the family as part of an “Abenaki” community in the Franklin County area during the 19th century.

The use of such a methodology to demonstrate consistent interactions and significant social relationships for SSA's claimed ancestral families is unpersuasive. Using this process means that the families were identified as part of a claimed ancestral community based on the presumption that individuals with perceived similar names had shared social interactions, and not because the record actually demonstrated consistent interactions and social relationships among them.

In addition, the SSA petitioner has not submitted the documentation it used to create the lists of claimed ancestral families. Instead, the petitioner described the contents of various town, church, and census records, and submitted abstracted lists of various family names of claimed ancestors. Copies of the actual primary documents from which the petitioner claimed to have extracted this information were not submitted. Further, the SSA petitioner did not provide most of the interviews, field notes, or genealogical materials referenced in its narratives. The petitioner is encouraged to submit copies of these documents for verification and analysis.

Moreover, the petitioner has not provided sufficient evidence to explain how the claimed ancestral families which shared these family name or surname variations were consistently interacting in a way that would meet the requirements of criterion 83.7(b). For example, the petitioner has submitted little or no primary documentation from the 19th century to show these claimed ancestral families had significant marriage rates within the group, significant social relationships (formal or informal) connecting individual ancestors, important cooperative labor or other economic activities among claimed ancestors, or noteworthy sacred or secular behavior involving most of the group. It is also unclear if most of the claimed ancestral families from the 19th century actually have descendants in SSA's current membership.

The petitioner has also described or provided abstracted lists of family names from four categories of evidence: local historical accounts, church and town records, Federal census data, and genealogical research on Abenaki family names, which it claims demonstrates the existence of its ancestral community in northwestern Vermont during the 19th century. It has not submitted copies of the documents referenced in the four groups of evidence and is encouraged to do so. Despite the lack of primary documentation, an evaluation of the limited available evidence does not indicate the four categories of evidence demonstrate that a predominant portion of the group's claimed ancestors comprised a distinct community during the 19th century. Rather, the evaluation reveals that many of the petitioner's claimed ancestral families began migrating to Vermont as individual families, beginning slowly in a disconnected fashion in the early 19th century, and continuing in a very gradual manner until well into the 20th century. Many came from unknown places in Quebec or separate locations throughout the Canadian province. Others came from Massachusetts, New York, Connecticut, or Rhode Island. There is no available evidence showing these families interacted with each other as part of a community in Canada or elsewhere in the United States. There is also no evidence to demonstrate that the claimed ancestors migrated to Vermont as a group or acted as part of a community distinct in some way from the wider society after they arrived in Vermont. Thus, the petitioner does not meet the requirements of criterion 83.7(b) from 1800 to 1900.

The information presented by the petitioner does not indicate the presence of a group or a community of the petitioner's claimed ancestors from 1900 to the early 1970's; rather, it indicates only that some of the current petitioner's claimed ancestors lived in Franklin County, Vermont (particularly in the Town of Swanton) during the 20th century. The petitioner submitted very few copies of primary documents such as birth certificates, land records, or census enumerations, choosing instead to submit abstracts of this information. These abstracts, however, are inadequate for the purposes of the Department's verification research and evaluation, which require copies of original documents. Furthermore, on several occasions when original documents were located by the Department or submitted by the State of Vermont, they did not contain the information the petitioner claimed.

Information provided by the petitioner and located by the Department does not demonstrate that the ancestors claimed by the petitioner formed an “enclave” in the Town of Swanton, Vermont. Some claimed ancestors lived on the streets defined as making up an area of the town referred to as “Back Bay,” but others lived elsewhere in the town, and nonmember families also appear to have lived on these streets. The petitioner has not demonstrated the existence of a distinct community within Swanton, Vermont, consisting of the petitioner's ancestors, or that those ancestors constituted a “community-within-a-community” among the French-Canadian or Roman Catholic families in the town. The petitioner also has not demonstrated that assorted references to “Abenaki” Indians refer to their ancestors, rather than to Abenaki from New England and Canada who traveled to the area to hunt, fish, or sell crafts.

The group maintains that it did not keep membership lists before the 1970's and the initial organization of the SSA. However, the petition lacks the type of evidence which, in the absence of formal lists, would help to define the makeup of a community, such as lists of attendees at meetings or other gatherings, letters detailing interaction among people in religious or social organizations, or journals describing the participation by people in rituals such as baptisms, marriages, and funerals. Without this information, it is not possible to determine who was supposed to have been a member of this “group” before the 1970's. Membership standards since the 1970's indicate a very fluid group, with few clearly-defined, consistent standards for membership.

After the formal organization of the SSA in the early 1970's, the group became a more organized body, with an emphasis on providing services such as after-school programs and vocational training through the Abenaki Self-Help Association, Incorporated (ASHAI), the group's social-welfare organization. The group has also introduced some elements of Western Abenaki and pan-Indian culture into their gatherings, and has actively sought to establish relations with other non-federally recognized groups and recognized Indian tribes (both in Canada and the United States). These developments notwithstanding, the group has not displayed a level of community that would meet criterion 83.7(b) from 1975 to the present. The social and cultural elements are of recent introduction, and there is not enough information to indicate that these events are of more than symbolic value to the group as a whole, rather than to a few involved members. Although the SAA group has organized events that allow its members to meet and socialize, the petitioner has not demonstrated that a significant portion of its membership regularly associate with each other. The lack of documentation also makes it difficult to determine who among the membership has participated in the group's various activities.

The SSA petitioner has not demonstrated that a distinct community of the petitioner's ancestors existed in Franklin County, Vermont, during the 19th century, and has not satisfied the requirements for criterion 83.7(b) at any time before 1975. Further, the group has not provided sufficient evidence of community to establish that it meets criterion 83.7(b) since 1975. Therefore, the petitioner has not met the requirements of criterion 83.7(b).

The SSA petitioner does not meet criterion 83.7(c), which requires that it has maintained political influence or authority over its members as an autonomous entity from historical times until the present. The SSA petitioner claims it expressed political influence mainly through “family bands” before the formation of its council in the middle of the 1970's. The available evidence from potential antecedent entities, however, indicates that the historical Western Abenaki actually had a well-developed political organization during the colonial period consisting of a “civil chief” and a “war chief”. The “civil chief” presided over a “great council” composed of the “war chief” and the “elders” of the families. At the Saint Francis (Odanak) village in Quebec during the 1700's, the “council” contained a “grand chief” and several other “chiefs”. The names and political activities of most of these leaders are not well known. However, historical records reveal two well-documented political figures among the Western Abenaki before 1800—Chiefs Grey Lock and Joseph-Louis Gill. Grey Lock gained prominence in the first half of the 18th century, and Joseph-Louis Gill in the latter half. Yet, as described previously under criterion 83.7(b), the available evidence does not demonstrate the current petitioner or its claimed ancestral families descended as a group from any Western Abenaki tribe either in Quebec and/or Vermont. Thus, evidence of political activity for Western Abenaki chiefs like Grey Lock and Joseph-Louis Gill (or an unnamed Abenaki “chief” identified in a 1765 lease as the late husband of a widow named “Charlotte”) during the colonial period does not demonstrate political influence among the SSA's claimed ancestors. The petitioner has also not provided other evidence of what its specific claimed ancestors might have been doing as a group to exercise political influence before 1800.

The evidence presented for the 19th century is also inadequate. The petitioner has not submitted evidence to demonstrate what its claimed ancestors were doing between 1800 and 1875 to exercise political influence or authority across the group, particularly as many of the people identified as the ancestors of the petitioner were living in various towns across Quebec, Canada, during this time. For 1875 to 1900, the petitioner claimed that individuals such as Nazaire St. Francis, Sr., and Cordelia (Freemore) Brow served as informal leaders of a group of their claimed ancestors in the “Back Bay” area of the Town of Swanton, Vermont; however, the petitioner has not demonstrated that any of these individuals exercised authority over a group of the petitioner's claimed ancestors. For the first 75 years of the 20th century, the petitioner has presented little evidence demonstrating informal leadership among any portion of the petitioner's claimed ancestors. Information describing Nazaire St. Francis, Jr., Gene Cote, and Cordelia (Freemore) Brow as informal leaders must be supplemented with additional information if the petitioner wishes to substantiate its claims. The petitioner has not demonstrated informal or formal political authority among a group of its claimed ancestors at any time before 1975, and therefore, does not satisfy the requirements for criterion 83.7(c) for this time period.

During the 1970's, SSA appears to have become politically active after its formal organization. In addition to ASHAI, the group also formed a “tribal council.” Under the leadership of “chiefs” Homer St. Francis and Leonard Lampman, the group began their petition for Federal acknowledgment, instituted some social and cultural programs, and engaged the state of Vermont in a number of legal battles. However, the petition lacks evidence to demonstrate that participation in the group's political processes was widespread across the membership of the group. The lack of sign-in sheets from meetings is problematic because it is difficult to demonstrate who exactly was involved in the group's various meetings. Further, the lack of 17 years of minutes from ASHAI and the lack of 11 years of “tribal council” meeting minutes (as well as redacted ASHAI and council minutes spanning 8 and 9 years respectively) makes it difficult to understand what issues were important to the group and who was participating in the group's political organization. The petitioner has not demonstrated that the organization formed after 1975 has a bilateral relationship between the membership and the elected (or appointed) governing body, in which the leadership acknowledges and responds to the concerns of the membership. Rather, the evidence indicates that political influence is limited to the actions of a small number of members pursuing an agenda with a minimal amount of input from the membership. Therefore, the petitioner has not satisfied the requirements of criterion 83.7(c) since 1975.

The SSA petitioner meets criterion 83.7(d), which requires the petitioner to submit its governing document, including its membership criteria. The petitioner submitted a copy of its constitution, which defines its procedures by which it governs its affairs and its members, and which requires members to document descent from (1) an Abenaki family listed on the 1765 James Robertson lease; or (2) Abenaki ancestors as determined by the petitioner's governing body.

The SSA petitioner does not meet criterion 83.7(e), which requires that the petitioner's members descend from a historical Indian tribe or from tribes that combined and functioned as a single autonomous political entity. Eight current members (less than 1 percent of the group) have documented descent from a historical individual identified in the 19th century as a member of the St. Francis Abenaki tribe at Odanak, Quebec, Canada, but have not documented descent from historic individuals identified as members of the Missisquoi Abenaki. None of the petitioner's remaining 1,163 members have documented descent from any of the presumed Abenaki persons listed on the 1765 James Robertson lease or from any persons identified on any other list, census, or primary or reliable secondary document as members of a historical Missisquoi Abenaki or historical Western Abenaki Indian tribe, or any other historical tribal entity. Therefore, the petitioner does not satisfy the requirements of criterion 83.7(e).

Criterion 83.7(e) also requires that the petitioner submit an official membership list of all known current members, and that the petitioner's governing body provide a separate certification of that membership list. The petitioner's official membership list of August 9, 2005, which needs to be separately certified by the petitioner's governing body, contained 2,506 entries, but only 1,171 individuals on that list were members who had submitted signed application forms and provided documentation required by the petitioner.

The SSA petitioner meets criterion 83.7(f), which requires that a petitioning group be comprised principally of persons who are not members of any acknowledged North American Indian tribe. The petitioner has indicated that a number of current members are not listed on the group's current membership list. Thus, this conclusion for criterion 83.7(f) does not apply to those individuals whose names were not submitted.

The SSA petitioner meets criterion 83.7(g) because there is no evidence in the record that the petitioner or its members have been explicitly terminated or forbidden a Federal relationship by an act of Congress.

Based on this preliminary factual determination, the Department proposes not to extend Federal Acknowledgment as an Indian Tribe under 25 CFR Part 83 to the petitioner known as the St. Francis/Sokoki Band of Abenakis of Vermont.

As provided by 25 CFR 83.1(h) of the regulations, a report summarizing the evidence, reasoning, and analyses that are the basis for the proposed decision will be provided to the petitioner and interested parties, and is available to other parties upon written request.

Comments on the proposed finding and/or requests for a copy of the report of evidence should be addressed to the Office of the Assistant Secretary—Indian Affairs, 1951 Constitution Avenue, NW., Washington, DC 20240, Attention: Office of Federal Acknowledgment, Mail Stop 34B-SIB.

Comments on the proposed finding should be submitted within 180 calendar days from the date of publication of this notice. The period for comment on a proposed finding may be extended for up to an additional 180 days at the AS-IA's discretion upon a finding of good cause (83.10(i)). Comments by interested and informed parties must be provided to the petitioner as well as to the Federal government (83.10(h)). After the close of the 180-day comment period, and any extensions, the petitioner has 60 calendar days to respond to third-party comments (83.10(k)). This period may be extended at the AS-IA's discretion, if warranted by the extent and nature of the comments.

After the expiration of the comment and response periods described above, the Department will consult with the petitioner concerning establishment of a schedule for preparation of the final determination. The AS-IA will publish the final determination of the petitioner's status in the Federal Register as provided in 25 CFR 83.10(1), at a time that is consistent with that schedule.

Dated: November 9, 2005.
James E. Cason,
Associate Deputy Secretary.

[FR Doc. 05-22756 Filed 11-16-05; 8:45 am]

BILLING CODE 4310-GI-P